DEPARTMENT OF DEFENSE

Department of the Air Force

HQ USAF Scientific Advisory Board

AGENCY: Department of the Air Force, DoD.

ACTION: Notice of meeting.

SUMMARY: Pursuant to Public Law 92-463, notice is hereby given of the forthcoming meeting of the PBA Study Panel Chairs. The purpose of the meeting is to allow the SAB and study leadership to gather information from the CIA related to PBA information integration and management. Because information to be discussed is sensitive and proprietary, this meeting will be closed to the public.

DATES: 20 May 2002, 0800-1600L.

ADDRESSES: CIA Headquarters, Langley VA 20505.

FOR FURTHER INFORMATION CONTACT: Colonel Marian Alexander, Air Force Scientific Advisory Board Secretariat, 1180 Air Force Pentagon, Rm 5D982, Washington DC 20330-1180, (703) 697-4811.

Pamela D. Fitzgerald,
Air Force Federal Register Liaison Officer.

[FR Doc. 02-11017 Filed 5-2-02; 8:45 am]

BILLING CODE 5001-05-U